DEPARTMENT OF ENERGY

Electricity Advisory Committee

AGENCY: Department of Energy, Office of Electricity Delivery and Energy Reliability.

ACTION: Notice of Renewal.

SUMMARY: Pursuant to Section 14(a)(2)(A) of the Federal Advisory Committee Act, and in accordance with Title 41 of the Code of Federal Regulations, section 102-3.65(a), and following consultation with the Committee Management Secretariat, General Services Administration, notice is hereby given that the Electricity Advisory Committee's (EAC) charter has been renewed for a two-year period beginning on August 8, 2014.

The Committee will provide advice and recommendations to the Assistant Secretary for Electricity Delivery and Energy Reliability on programs to modernize the Nation's electric power system.

Additionally, the renewal of the EAC has been determined to be essential to conduct Department of Energy business and to be in the public interest in connection with the performance of duties imposed upon the Department of Energy by law and agreement. The Committee will continue to operate in accordance with the provisions of the Federal Advisory Committee Act, adhering to the rules and regulations in implementation of that Act.

FOR FURTHER INFORMATION CONTACT: Matt Rosenbaum, Designated Federal Officer at (202) 586-1060.

Issued in Washington, DC, on August 8, 2014.
Amy Bodette,
Committee Management Officer.

[FR Doc. 2014-19133 Filed 8-12-14; 8:45 am]

BILLING CODE 6450-01-P